DEPARTMENT OF COMMERCE

International Trade Administration

[A-570-863]

Notice of Amended Preliminary Antidumping Duty Determination of Sales at Less Than Fair Value: Honey From the People's Republic of China

AGENCY: Import Administration, International Trade Administration, Department of Commerce.

ACTION: Notice of amended preliminary antidumping duty determination of sales at less than fair value: Honey from the People's Republic of China.

EFFECTIVE DATE: August 2, 2001.

FOR FURTHER INFORMATION CONTACT: Angelica Mendoza (Inner Mongolia and Zhejiang) at (202) 482-3019, Fred Baker (Kunshan) at (202) 482-2924, Charles Rast at (202) 482-1324 or Donna Kinsella at (202) 482-0194; Antidumping and Countervailing Duty Enforcement Group III, Office Eight, Import Administration, International Trade Administration, U.S. Department of Commerce, 14th Street and Constitution Avenue NW., Washington, DC 20230.

Amendment of Preliminary Determination

The Department of Commerce (the Department) is amending the preliminary determination in the antidumping investigation of honey from the People's Republic of China (PRC). This amended preliminary determination results in a revised antidumping rate for one respondent.

Background

On May 4, 2001, the Department issued its affirmative preliminary determination in this proceeding. See Notice of Preliminary Determination of Sales at Less than Fair Value: Honey from the People's Republic of China, 66 FR 24101 (May 11, 2001) (Preliminary Determination). That preliminary determination covered the following manufacturers/exporters: Inner Mongolia Autonomous Region Native Produce and Animal By-Products Import and Export Corporation (Inner Mongolia), Kunshan Foreign Trading Company (Kunshan), Zhejiang Native Produce and Animal By-Products Import and Export Corporation (Zhejiang), High Hope International Group Jiangsu Foodstuffs Import and Export Corporation (High Hope), Shanghai Eswell Enterprise Company Ltd. (Shanghai Eswell), Anhui Native Produce Import and Export Corporation (Anhui), and Henan Native Produce Import and Export Corporation (Henan).

On May 21, 2001, the Department received from the petitioners a timely allegation of ministerial errors in the preliminary determination. The petitioners alleged that the Department:

• Incorrectly calculated the value of iron drums for three respondents;

• Applied an incorrect inflation factor for two respondents;

• Used an incorrect byproduct production figure in calculating the volume of beeswax for one respondent;

• Failed to value water in its calculation of energy costs for one respondent.

See letter from Collier Shannon Scott alleging ministerial errors in the preliminary determination (May 21, 2001).

Significant Ministerial Error

A significant ministerial error is defined as an error, the correction of which, singly or in combination with other errors, would result in (1) a change of at least five absolute percentage points in, but not less than 25 percent of, the weighted-average dumping margin calculated in the original (erroneous) preliminary determination; or (2) a difference between a weighted-average dumping margin of zero or de minimis and a weighted-average dumping margin of greater than de minimis or vice versa. See 19 CFR 351.224(g).

Amended Determination

The Department has reviewed its preliminary calculations and agrees that what the petitioners identified as ministerial errors do constitute ministerial errors within the meaning of 19 CFR 351.224(f). Moreover, from our review of the calculations we have determined that the Department also erred by:

• Using incorrect freight forwarding rates in valuing the freight charges for one respondent;

• Applying the by-product offset for of beeswax on a kilogram, rather than metric ton basis for one respondent;

• Failing to convert the value of beeswax into the correct currency for one respondent;

• Failing to calculate a single weighted-average normal value for one respondent who had two suppliers;

• Applying an inflator to labor rates taken from the Department's website.

For a detailed analysis and the Department's determinations, see the July 25, 2001 Memorandum to Richard O. Weible from Angelica Mendoza regarding Ministerial Error Allegations on file in room B-099 of the main Commerce building. As a result of our analysis of petitioners' allegations and the other ministerial errors we have identified, we are amending our preliminary determination to revise the antidumping rates in accordance with 19 CFR 351.224(e). However, we have determined that only for Zheijing were the ministerial errors significant within the meaning of 19 CFR 351.224(g). Therefore, this amended preliminary determination reflects a revised margin only for Zheijing. Suspension of liquidation will be revised accordingly and parties will be notified of this determination, in accordance with section 733(d) and (f) of the Tariff act of 1930, as amended (the Tariff Act).

The following weighted-average dumping margins apply:

Manufacturer/exporter | Margin (percent)
Inner Mongolia | 44.00
Kunshan | 37.51
Zhejiang | 22.05
High Hope | 39.76
Shanghai Eswell | 39.76
Anhui | 39.76
Henan | 39.76
PRC-wide Entity | 183.80

The PRC-wide rate has not been amended, and applies to all entries of the subject merchandise except for entries from exporters/producers that are identified individually above.

Critical Circumstances

In our preliminary determination we found critical circumstances with respect to Zhejiang. In order to find critical circumstances in situations in which there is no previous history of dumping of the product, the Department must find that there is a reasonable basis to believe or suspect that an importer knew or should have known that the exporter was selling the subject merchandise at less than fair value. See section 733(e)(1)(A) of the Tariff Act. In doing so, the Department normally considers margins of 25 percent or more for EP sales sufficient to impute such knowledge of dumping. See, e.g., Preliminary Determination, 66 FR at 24106. In this case we imputed to Zhejiang's importers knowledge that Zhejiang was selling honey to the United States at dumped prices based on the 38.96 percent margin originally calculated for Zhejiang. Id. Given that, as a result of this correction of ministerial errors, the margin for Zhejiang is now less than 25 percent, we are no longer imputing knowledge of dumping with respect to imports from Zhejiang. Therefore, we now find that critical circumstances do not exist as to imports from Zhejiang. As a result, we will instruct the U.S. Customs Service to liquidate all entries of subject merchandise exported by Zhejiang that are entered, or withdrawn from warehouse, for consumption before May 11, 2001, which was the date of publication of the original preliminary determination in the Federal Register.

This determination is issued and published pursuant to section 733(f) and 777(i)(1) of the Tariff Act.

Faryar Shirzad,
Assistant Secretary for Import Administration.

[FR Doc. 01-19348 Filed 8-1-01; 8:45 am]

BILLING CODE 3510-DS-P